DEPARTMENT OF COMMERCE

National Oceanic and Atmospheric Administration

RIN 0648-XC828

South Atlantic Fishery Management Council; Public Meeting

AGENCY: National Marine Fisheries Service (NMFS), National Oceanic and Atmospheric Administration (NOAA), Commerce.

ACTION: Notice of a public meeting of the South Atlantic Fishery Management Council (SAFMC).

SUMMARY: In addition to a Swearing-In Ceremony for new South Atlantic Fishery Management Council (Council) Members and a Council Member Visioning Workshop, the Council will hold a meetings of the: Ecosystem-Based Management Committee: Dolphin Wahoo Committee; Southeast Data, Assessment and Review Committee (partially Closed Session); Snapper Grouper Committee; King & Spanish Mackerel Committee; Advisory Panel Selection Committee (closed session); Protected Resources Committee; Executive Finance Committee; Data Collection Committee; and a meeting of the Full Council. The Council will take action as necessary. The Council will also hold an informal public question and answer session regarding agenda items and a formal public comment session.

DATES: The Council meeting will be held from 9 a.m. on Monday, September 16, 2013 until 1 p.m. on Friday, September 20, 2013.

ADDRESSES: The meeting will be held at the Charleston Marriott Hotel, 170 Lockwood Boulevard, Charleston, SC 29403; telephone: (800) 968-3569 or (843) 723-3000; fax: (843) 723-0276.

Council Address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Council Member Visioning Workshop Agenda, Monday, September 16, 2013, 9:15 a.m. until 12 noon

1. Receive a presentation on the Logic Model.

2. Review and discuss the Mid-Atlantic Fishery Management Council Strategic Plan.

3. Review SAFMC Snapper Grouper Objectives, provide direction to staff and schedule upcoming Port Meetings.

Ecosystem-Based Management Committee Agenda, Monday, September 16, 2013, 1:30 p.m. until 2:30 p.m.

1. Review public hearing comments for Coral Amendment 8, pertaining to Coral Habitat Areas of Particular Concern (HAPCs) and transit through the Oculina HAPC.

2. Review Amendment 8 and discuss recommendation of approval of the amendment for formal Secretarial review. Deem the codified text as necessary.

3. Receive an update on ecosystem activities.

Dolphin Wahoo Committee Agenda, Monday, September 16, 2013, 2:30 p.m. until 4 p.m.

1. Receive updates on the status of commercial and recreational catches versus Annual Catch Limits (ACLs).

2. Review public hearing comments for Dolphin Wahoo Amendment 5, pertaining to bag limit sales of fish and changes to the ACL and the Allowable Biological Catch (ABC).

4. Review Amendment 5 and discuss recommendation of approval of the amendment for formal Secretarial review. Deem the codified text as necessary.

3. Discuss issue of transport of fillets from Bahamian waters into the United States' (US) Exclusive Economic Zone (EEZ).

Southeast Data, Assessment and Review (SEDAR) Committee Agenda, Monday, September 16, 2013, 4 p.m. until 5 p.m. (Note: A portion of this meeting will be Closed.)

1. Receive a SEDAR activities update. Take Committee action as appropriate. Develop guidance to SEDAR Steering Committee members for the SEDAR process as well as the 2015 assessment priorities.

2. Develop recommendations for SEDAR 38 (Gulf of Mexico and South Atlantic King Mackerel) participants (Closed Session).

Snapper Grouper Committee Agenda, Tuesday, September 17, 2013, 8:30 a.m. until 5 p.m. and Wednesday, September 18, 2013, 8:30 a.m. until 12 noon

1. Receive and discuss the status of commercial and recreational catches versus ACLs.

2. Receive and discuss a report on total removals of red snapper in 2012 from U.S. South Atlantic waters.

3. Receive an update on the status of Snapper Grouper amendments under formal Secretarial review.

4. Receive a briefing on the deployment of artificial reef material in the Charleston Deep Reef Marine Protected Area (MPA).

5. Review public hearing comments for Regulatory Amendment 14, relating to a multitude of species in the Snapper Grouper Fishery Management Plan (FMP).

5. Review Regulatory Amendment 14 and discuss recommendation of approval of the amendment for formal Secretarial review. Deem the codified text as necessary.

6. Receive an overview of the following Snapper Grouper amendments: Amendment 29, pertaining to Only Reliable Catch Stocks (ORCS) Revisions to the Control Rule; Amendment 22, relating to tags that would track recreational harvest of species; and Regulatory Amendment 16, pertaining to the removal of the prohibition of Black Sea Bass pots. The committee will take action as necessary and provide guidance to staff.

7. Receive an overview of Snapper Grouper Regulatory Amendment 17, relating to MPAs and HAPCs for Speckled Hind and Warsaw Grouper. Review the stated Purpose and Need of the amendment; select sites that meet the criteria for MPA/HAPC reconfiguration as well as target spawning of Speckled Hind and Warsaw Grouper; and provide guidance to staff on timing of the amendment.

King & Spanish Mackerel Committee Agenda, September 18, 2013, 1:30 p.m. until 5 p.m.

1. Receive and discuss the status of commercial and recreational catches versus ACLs for Atlantic group King Mackerel, Spanish Mackerel, and Cobia.

2. Review public hearing comments for the following amendments in the Coastal Migratory Pelagics (CMP) FMP: Joint South Atlantic/Gulf of Mexico (Gulf) Mackerel Amendment 19, pertaining to permits and tournament sale requirements; Joint Mackerel Amendment 20, regarding boundaries and transit provisions; and actions in the South Atlantic Mackerel Framework, relating to transfer at sea and trip limits. Develop recommendations for approval of the amendments and the framework as appropriate; recommend approval of the amendments and framework for formal Secretarial review; and deem the codified text as necessary.

Note: There will be an informal public question and answer session with the NMFS Regional Administrator and the Council Chairman on Wednesday, September 18, 2013, beginning at 5:30 p.m.

Advisory Panel (AP) Selection Committee Agenda, Thursday, September 19, 2013, 8:30 a.m. until 9:30 a.m. (Closed Session)

1. Review motions from the June 2013 appointment recommendations and take action as necessary.

2. Review the current AP policies of the other Councils and provide recommendations for term limits.

Protected Resources Committee Agenda, Thursday, September 19, 2013, 9:30 a.m. until 11 a.m.

1. Receive an update from the Southeast Regional Office (SERO) Protected Resources Division on the current consultations of species.

2. Receive a presentation on the biology and behavior of species as well as the Atlantic Large Whale Take Reduction Plan Proposed Rule and the Black Sea Bass Pot/Right Whale Co-occurrence Model.

3. Receive an update from the Endangered Species Act (ESA) Working Group.

4. Discuss presentations and updates and take action as appropriate.

Executive Finance Committee Agenda, Thursday, September 19, 2013, 11 a.m. until 12 noon

1. Receive an update on the status of Council calendar year (CY) 2013 funding as well as CY 2013 budget expenditures.

2. Receive an update on the Joint Committee on South Florida Management Issues workshops.

3. Discuss Council Follow-up and Priorities and address other issues as appropriate.

Data Collection Committee Agenda, Thursday, September 19, 2013, 1:30 p.m. until 3:30 p.m.

1. Receive an update on the status of the Joint South Atlantic/Gulf Generic For-Hire Reporting Amendment (South Atlantic portion only) as well as the status on the CMP Framework for Headboat Reporting in the Gulf.

2. Receive a report on how compliance will be implemented in both the Generic For-Hire Reporting Amendment and the Joint South Atlantic/Gulf Generic Dealer Permit Amendment.

3. Review public hearing comments on the Joint South Atlantic/Gulf Generic Dealer Permit Amendment. Review any changes to the amendment and discuss recommendation of approval of the amendment for formal Secretarial review. Deem the codified text as necessary.

4. Receive Southeast Fisheries Science Center (SEFSC) presentations on: sample sizes for individual species; and the commercial electronic logbook pilot project for the Joint South Atlantic/Gulf Generic Commercial Logbook Reporting Amendment. Discuss and take action as appropriate.

5. Receive an overview of Gulf actions for the Gulf Generic Charterboat Reporting Amendment. Provide guidance to staff and take action as appropriate.

Council Session: September 19, 2013, 4 p.m. until completion of public comment period and September 20, 2013, 8 a.m. until 1 p.m.

Council Session Agenda, Thursday, September 19, 2013, 4 p.m. until completion of public comment period

4 p.m.-4:15 p.m.: Call the meeting to order, adopt the agenda, approve the June 2013 minutes, elect Council Chairman and Vice Chairman, and receive presentations.

Note: A formal public comment session will be held on Thursday, September 19, 2013, beginning at 4:30 p.m. on the following items: Snapper Grouper Regulatory Amendment 14; Dolphin Wahoo Amendment 5; Coral Amendment 8; Mackerel Amendments 19 and 20; Mackerel Framework; and the Joint South Atlantic and Gulf Generic Dealer Permit Amendment. Following comment on these specific items, public comment will be accepted regarding any other items on the Council agenda. The amount of time provided to individuals will be determined by the Chairman based on the number of individuals wishing to comment.

Council Session Agenda, Friday, September 20, 2013, 8 a.m. until 1 p.m.

8 a.m.-8:15 a.m.: The Council will receive a legal briefing on litigation. (Closed Session)

8:15 a.m.-8:30 a.m.: The Council will receive a report from the Snapper Grouper Committee and is scheduled to either approve or disapprove Regulatory Amendment 14 for formal Secretarial review. The Council will consider other Committee recommendations and take action as appropriate.

8:30 a.m.-8:45 a.m.: The Council will receive a report from the King & Spanish Mackerel Committee and is scheduled to approve or disapprove the following amendments for formal Secretarial review: Mackerel Amendment 19; Mackerel Amendment 20; and South Atlantic Framework actions. The Council will consider other Committee recommendations and take action as appropriate.

8:45 a.m.-9 a.m.: The Council will receive a report from the Data Collection Committee and is scheduled to either approve or disapprove the Joint South Atlantic/Gulf Generic Dealer Permit Amendment for formal Secretarial review. The Council will consider other Committee recommendations and take action as appropriate.

9 a.m.-9:15 a.m.: The Council will receive a report from the Ecosystem-Based Management Committee and is scheduled to either approve or disapprove Coral Amendment 8 for formal Secretarial review. The Council will consider other Committee recommendations and take action as appropriate.

9:15 a.m.-9:30 a.m.: The Council will receive a report from the Dolphin Wahoo Committee and is scheduled to either approve or disapprove Dolphin Wahoo Amendment 5 for formal Secretarial review. The Council will consider other Committee recommendations and take action as appropriate.

9:30 a.m.-9:45 a.m.: The Council will receive a report from the Council Member Visioning Workshop, consider workshop recommendations and take action as appropriate.

9:45 a.m.-10 a.m.: The Council will receive a report from the SEDAR Committee and is scheduled to approve SEDAR 38 participants. The Council will consider other Committee recommendations and take action as appropriate.

10 a.m.-10:15 a.m.: The Council will receive a report from the AP Selection Committee and will consider recommendations for the appointment or reappointment of AP members. The Council will consider other Committee recommendations and take action as appropriate.

10:15 a.m.-10:30 a.m.: The Council will receive a report from the Protected Resources Committee, consider Committee recommendations and take action as appropriate.

10:30 a.m.-10:45 a.m.: The Council will receive a report from the Executive Finance Committee and is scheduled to approve the Council Follow-up and Priorities documents. The Council will take action on the South Florida Management issues as appropriate, consider other Committee recommendations and take action as appropriate on these recommendations.

10:45 a.m.-1 p.m.: The Council will receive various presentations, including a briefing on the status of the U.S. and Bahamas border issue and Highly Migratory Species (HMS) Amendment 7 regarding Atlantic Bluefin Tuna, as well as status reports from SERO and the NMFS SEFSC. The Council will review and develop recommendations on Experimental Fishing Permits as necessary; review agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: August 20, 2013.
Tracey L. Thompson,
Acting Deputy Director, Office of Sustainable Fisheries, National Marine Fisheries Service.

[FR Doc. 2013-20600 Filed 8-22-13; 8:45 am]

BILLING CODE 3510-22-P